DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project: “Child Hospital Consumer Assessment of Healthcare Providers and Systems (Child HCAHPS) Survey Database.”

This proposed information collection was previously published in the Federal Register on November 7th, 2018, and allowed 60 days for public comments. AHRQ received and responded to one substantive comment from a member of the public. The purpose of this notice is to allow an additional 30 days for public comment.

DATES: Comments on this notice must be received by April 18, 2019.

ADDRESSES: Written comments should be submitted to: AHRQ's OMB Desk Officer by fax at (202) 395-6974 (attention: AHRQ's desk officer) or by email at OIRA_submission@omb.eop.gov (attention: AHRQ's desk officer).

FOR FURTHER INFORMATION CONTACT: Doris Lefkowitz, AHRQ Reports Clearance Officer, (301) 427-1477, or by email at doris.lefkowitz@AHRQ.hhs.gov.

SUPPLEMENTARY INFORMATION:

Proposed Project

Child Hospital Consumer Assessment of Healthcare Providers and Systems (Child HCAHPS) Survey Database

In accordance with the Paperwork Reduction Act, 44 U.S.C. 3501-3521, AHRQ invites the public to comment on this proposed information collection. The Child Hospital CAHPS Survey (Child HCAHPS) assesses the experiences of pediatric patients (less than 18 years old) and their parents or guardians with inpatient care. It complements the Adult Hospital CAHPS Survey (Adult HCAHPS), which asks adult inpatients about their experiences. In contrast to the adult version of HCAHPS, there is no publicly available comprehensive database for Child HCAHPS that allows survey users to analyze and compare their survey results in order to assess their performance and identify opportunities for improvement. The proposed Child HCAHPS Database will fill this critical information gap by creating a voluntary database available to all Child HCAHPS users to support both quality improvement and research to enhance the patient-centeredness of care delivered to pediatric hospital patients.

AHRQ supported the development of the Child HCAHPS survey by the Center of Excellence for Pediatric Quality Measurement at Boston Children's Hospital. The Child HCAHPS survey is currently used by approximately 300 hospitals. Hospitals using Child HCAHPS, including the 25 hospital members of the Pediatric Patient Experience Collaborative, have expressed strong interest in working with AHRQ to develop a database that can provide a centralized repository of data.

Rationale for the information collection. Like the survey instrument itself and related toolkit materials to support survey implementation, aggregated Child HCAHPS Database results will be made publicly available on AHRQ's CAHPS website. Technical assistance will be provided by AHRQ through its contractor at no charge to hospitals to facilitate the access and use of these materials for quality improvement and research. Technical assistance will also be provided to support Child HCAHPS data submission.

The Child HCAHPS Database will support AHRQ's goals of promoting improvements in the quality and patient-centeredness of health care in pediatric hospital settings. This research has the following goals:

1. Improve care provided by individual hospitals and hospital systems.

2. Offer several products and services, including providing survey results presented through an Online Reporting System, summary chartbooks, custom analyses, private reports and data for research purposes.

3. Provides information to help identify strengths and areas with potential for improvement in patient care.

This study is being conducted by AHRQ through its contractor, Westat, pursuant to AHRQ's statutory authority to conduct and support research on health care and on systems for the delivery of such care, including activities with respect to: the quality, effectiveness, efficiency, appropriateness and value of health care services; quality measurement and improvement; and health surveys and database development. 42 U.S.C 299a(a)(1), (2), and (8).

Method of Collection

To achieve the goals of this project, the following activities and data collections that constitute information collection under the Paperwork Reduction Act (PRA) will be implemented:

Submission Notifications and Instructions. Clear instructions and notifications are of paramount importance for successful submission of valid data, seamless report dissemination, and streamlined communication with survey vendors, hospitals, or other submitters. Procedures for data submission through the data submission platform will include the following:

• Registration with the submission website to obtain an account with a secure username and password: The point-of-contact (POC), often the hospital, completes a number of data submission steps and forms, beginning with the completion of the online registration form. The purpose of this form is to collect basic contact information about the organization and initiate the registration process;

• Submission of signed Data Use Agreements (DUAs) and survey questionnaires. The purpose of the data use agreement, completed by the participating hospital, is to state how data submitted by or on behalf of hospitals will be used and provides confidentiality assurances;

• Submission of hospital information form. The purpose of this form completed by the participating organization, is to collect background characteristics of the hospital; and

• Follow-up with submitters in the event of a rejected file, to assist in making corrections and resubmitting the file.

With the approval and addition of the Child HCAHPS Database, data submitted will be used to produce three types of reporting products:

• Hospital Feedback Reports. Hospitals that submit data will have access to a customized report that presents findings for their individual submission along with results from the database overall. These “private” hospital feedback reports will display sortable results for each of the Child HCAHPS core composite measures and for each individual survey item that forms the composite measure.

• Child HCAHPS Chartbook. A summary-level Chartbook will be compiled to display top box and other proportional scores for the Child HCAHPS items and composite measures broken out by selected hospital characteristics (e.g., region, hospital size, ownership and affiliation, etc.).

• Online Reporting System. Aggregate results also will be made publicly available through an interactive, web-based system that allows users to view survey item and composite results (or build and download a custom report) in a variety of formats.

Estimated Annual Respondent Burden

Exhibit 1 shows the estimated burden hours for the respondents to participate in the database. The 302 POCs in Exhibit 1 are a combination of an estimated 300 hospitals that currently administer the Child HCAHPS survey and the two survey vendors assisting them.

Each hospital will register online for submission. The online Registration form will require about 5 minutes to complete. Each submitter will also complete a hospital information form of information about each hospital such as the name of the hospital, hospital size, state, etc. The online hospital information form takes on average 5 minutes to complete. The data use agreement will be completed by each of the 300 participating hospitals. Survey vendors do not sign or submit DUAs. The DUA requires about 3 minutes to sign and return by fax or mail. Each submitter, which in most cases will be the survey vendor performing the data collection, will provide a copy of their questionnaire and the survey data file in the required file format. Survey data files must conform to the data file layout specifications provide by the Child HCAHPS Database. Since the unit of analysis is at the hospital level, submitters will upload one data file per hospital. Once a data file is uploaded, the file will be automatically checked to ensure it conforms to the specifications and a data file status report will be produced and made available to the submitter. Submitters will review each report and will be expected to correct any errors in their data file and resubmit if necessary. It will take about one hour to submit the data for each hospital. The total burden is estimated to be 365 hours annually.

Exhibit 1—Estimated Annualized Burden Hours
Form name | Number of respondents/POCs | Number of responses per POC | Hours per response | Total burden hours
Registration Form | 300 | 1 | 5/60 | 25
Hospital Information Form | 300 | 1 | 5/60 | 25
Data Use Agreement | 300 | 1 | 3/60 | 15
Data Files Submission | 2 | 150 | 1 | 300
Total | 902 | NA | NA | 365

Exhibit 2 shows the estimated annualized cost burden based on the respondents' time to complete one submission process. The cost burden is estimated to be $16,722 annually.

Exhibit 2—Estimated annualized cost burden
Form name | Number of respondents | Total burden hours | Average hourly wage rate * | Total cost burden
Registration Form | 300 | 25 | 53.69ᵃ | $1,342
Hospital Information Form | 300 | 25 | ᵃ53.69 | 1,342
Data Use Agreement | 300 | 15 | ᵇ94.25 | 1,414
Data Files Submission | 2 | 300 | ᶜ 42.08 | 12,624
Total | 902 | 365 | NA | 16,722
* National Compensation Survey: Occupational wages in the United States May 2017, “U.S. Department of Labor, Bureau of Labor Statistics.”
(a) Based on the mean hourly wage for Medical and Health Services Managers (11-9111).
(b) Based on the mean hourly wage for Chief Executives (11-1011).
(c) Based on the mean hourly wages for Computer Programmer (15-1131).

Request for Comments

In accordance with the Paperwork Reduction Act, comments on AHRQ's information collection are requested with regard to any of the following: (a) Whether the proposed collection of information is necessary for the proper performance of AHRQ's health care research and health care information dissemination functions, including whether the information will have practical utility; (b) the accuracy of AHRQ's estimate of burden (including hours and costs) of the proposed collection(s) of information; (c) ways to enhance the quality, utility and clarity of the information to be collected; and (d) ways to minimize the burden of the collection of information upon the respondents, including the use of automated collection techniques or other forms of information technology.

Comments submitted in response to this notice will be summarized and included in the Agency's subsequent request for OMB approval of the proposed information collection. All comments will become a matter of public record.

Gopal Khanna,
Director.

[FR Doc. 2019-05144 Filed 3-18-19; 8:45 am]

BILLING CODE 4160-90-P